DEPARTMENT OF TRANSPORTATION

Federal Highway Administration

Environmental Impact Statement; Crow Wing and Mille Lacs Counties, Minnesota

AGENCY: Federal Highway Administration (FHWA), DOT.

ACTION: Revised notice of intent.

SUMMARY: The FHWA is issuing this revised notice to advise the public that the northern terminus for the environmental impact statement (EIS) being prepared for proposed highway improvements to Trunk Highway (TH) 169 in Crow Wing and Mille Lacs Counties, Minnesota, has been revised.

FOR FURTHER INFORMATION CONTACT: Cheryl Martin, Federal Highway Administration, Galtier Plaza, 380 Jackson Street, Suite 500, St. Paul, Minnesota 55101, Telephone (651) 291-6120; or James Hallgren, Project Manager, Minnesota Department of Transportation—District 3, 1991 Industrial Park Road, Baxter, Minnesota 56425, Telephone (218) 828-2773, V (651) 296-9930 TTY.

SUPPLEMENTARY INFORMATION: As indicated in the Notice of Intent published in the Federal Register on July 17, 2000, the FHWA, in cooperation with the Minnesota Department of Transportation (MnDOT), is preparing an EIS on a proposal to expand TH 169 from a two-lane roadway to a four-lane facility. As a result of agency and public involvement during scoping, the alternatives to be studied in the EIS have been expanded, requiring a revision to the northern terminus for the project. The EIS will consider alternatives to improve TH 169 from the intersection of TH 27 north of Onamia, Minnesota to the intersection of TH 18 and TH 6 northwest of the City of Garrison, Minnesota, approximately 36.5 kilometers (22.7 miles).

Coordination has been initiated and will continue with appropriate Federal, State and local agencies, and private organizations and citizens who have previously expressed or are known to have an interest in the proposed action. Public meetings have been held in the past and will continue to be held, with public notice given for the time and place of the meetings.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: December 26, 2001.
Stanley M. Graczyk,
Project Development Engineer, Federal Highway Administration.

[FR Doc. 02-2561 Filed 2-1-02; 8:45 am]

BILLING CODE 4910-22-M